NUCLEAR WASTE TECHNICAL REVIEW BOARD

Board Meeting

The U.S. Nuclear Waste Technical Review Board will hold a hybrid (in-person/virtual) public meeting on August 30, 2023.

Board meeting: August 30, 2023—The U.S. Nuclear Waste Technical Review Board will hold a hybrid (in-person/virtual) public meeting in Idaho Falls, ID, to discuss the U.S. Department of Energy consent-based siting process activities related to its mission of developing one or more federal interim storage facilities for commercial spent nuclear fuel as soon as practicable, and its research and development activities related to high burnup spent nuclear fuel and advanced reactor waste disposition.

Pursuant to its authority under section 5051 of Public Law 100-203, Nuclear Waste Policy Amendments Act (NWPAA) of 1987, the U.S. Nuclear Waste Technical Review Board (Board) will hold a hybrid (in-person/virtual) meeting in Idaho Falls, ID, on Wednesday, August 30, 2023, to discuss the U.S. Department of Energy (DOE) consent-based siting process activities related to its mission of developing one or more federal interim storage facilities for commercial spent nuclear fuel (SNF) as soon as practicable, and its research and development (R&D) activities related to high burnup SNF and advanced reactor waste disposition.

The hybrid (in-person/virtual) meeting will be held at Snake River Event Center, 780 Lindsay Blvd., Idaho Falls, ID 83402, which is located at the Shilo Inns Idaho Falls. The event center telephone number is (208) 497-0611 and the hotel telephone number is (208) 523-0088. The workshop will begin at 8:00 a.m. Mountain Daylight Time (MDT) and is scheduled to adjourn at 4:00 p.m. MDT. DOE will provide an update on its consent-based siting activities, give an overview of environmental justice in consent-based siting, and describe how it is incorporating social science and digital tools during the consent-based siting process. DOE will present an update on its R&D activities related to high burnup SNF. DOE also will describe its advanced reactor waste disposition R&D efforts both in terms of determining from a technical perspective how it can accept the SNF and high-level radioactive waste (HLW) for transportation and disposal and in developing and implementing an R&D plan to address technical gaps related to storage, transportation, and disposal of advanced reactor SNF and HLW. A detailed meeting agenda will be available on the Board's website at www.nwtrb.gov approximately one week before the meeting.

The meeting will be open to the public and there will be an opportunity for public comment at the end of the consent-based siting portion of the program and again, prior to meeting adjournment. Those attending the meeting in person and wanting to provide oral comments are encouraged to sign the Public Comment Register at the check-in table near the entrance to the meeting room. Oral commenters will be taken in the order in which they signed in. Depending on the number of speakers and online comments, a time limit on individual remarks may be set. Public comments can also be submitted during the meeting via the online meeting viewing platform, using the “Comment for the Record” form. Comments submitted online during the day of the meeting will be posted to the Board's website the following day. However, written comments of any length may be submitted to the Board staff by mail or electronic mail. All comments received in writing will be included in the meeting record, which will be posted on the Board's website after the meeting. An archived recording of the meeting will be available on the Board's website following the meeting, and a transcript of the meeting will be available on the website by October 30, 2023.

The in-person meeting will follow the COVID-19 precautions mandated by the local jurisdiction. Meeting attendees should observe community guidelines in place at the time of the meeting. The Board will post an update on its website if the meeting changes to a virtual-only meeting. Attendees also are encouraged to pre-register, by providing name and affiliation to SitingWorkshop@nwtrb.gov, to reduce their time signing in at the check-in table. If the meeting changes to a virtual-only format, those who pre-registered will be notified of the change.

The Board was established in the Nuclear Waste Policy Amendments Act of 1987 as an independent federal agency in the Executive Branch to perform an ongoing evaluation of the technical and scientific validity of activities undertaken by DOE related to implementing the NWPA. Board members are experts in their fields and are appointed to the Board by the President from a list of candidates submitted by the National Academy of Sciences. The Board is required to report its findings, conclusions, and recommendations to Congress and the Secretary of Energy. Board reports, correspondence, congressional testimony, and meeting transcripts and related materials are posted on the Board's website.

For information on the meeting, contact Bret Leslie at leslie@nwtrb.gov or Yoonjo Lee at lee@nwtrb.gov. For information on logistics or to request copies of the meeting agenda or transcript, contact Davonya Barnes at barnes@nwtrb.gov. All three may be reached by mail at 2300 Clarendon Boulevard, Suite 1300, Arlington, VA 22201-3367; by telephone at 703-235-4473; or by fax at 703-235-4495.

Dated: August 3, 2023.
Daniel G. Ogg,
Executive Director, U.S. Nuclear Waste Technical Review Board.

[FR Doc. 2023-16907 Filed 8-7-23; 8:45 am]

BILLING CODE 6820-AM-P